NUCLEAR REGULATORY COMMISSION

Sunshine Federal Register Notice

DATES: Weeks of October 25, November 1, 8, 15, 22, 29, 2004.

PLACE: Commissioners' Conference Room, 11555 Rockville Pike, Rockville, Maryland.

STATUS: Public and Closed.

MATTERS TO BE CONSIDERED:

Week of October 25, 2004

There are no meetings scheduled for the week of October 25, 2004.

Week of November 1, 2004—Tentative

There are no meetings scheduled for the week of November 1, 2004.

Week of November 8, 2004—Tentative

Monday, November 8, 2004

9 a.m. Briefing on Plant Aging and Material Degradation Issues—Part One (Public Meeting) (Contact: Steve Koenick, 301-415-1239)

1:30 p.m. Briefing on Plant Aging and Material Degradation Issues—Part Two (Public Meeting) (Contact: Steve Koenick, 301-415-1239)

This meeting (both parts) will be webcast live at the Web address— http://www.nrc.gov.

Week of November 15, 2004—Tentative

Tuesday, November 16, 2004

1:30 p.m. Briefing on Threat Environment Assessment (Closed—Ex. 1) (New time)

Thursday, November 18, 2004

1:30 p.m. Discussion of Security Issues (Closed—Ex. 1) (New date and time)

Week of November 22, 2004—Tentative

There are no meetings scheduled for the week of November 22, 2004.

Week of November 29, 2004—Tentative

There are no meetings scheduled for the week of November 29, 2004.

* The schedule for Commission meetings is subject to change on short notice. To verify the status of meetings call (recording)—(301) 415-1292. Contact person for more information: Dave Gamberoni, (301) 415-1651.

“Briefing on Reactor Safety and Licensing Activities (Public Meeting),” originally scheduled for 9:30 a.m. on Tuesday, November 9, 2004, is being rescheduled for a later date.

The NRC Commission Meeting Schedule can be found on the Internet at: http://www.nrc.gov/what-we-do/policy-making/schedule.html.

The NRC provides reasonable accommodation to individuals with disabilities where appropriate. If you need a reasonable accommodation to participate in these public meetings, or need this meeting notice or the transcript or other information from the public meetings in another format (e.g. braille, large print), please notify the NRC's Disability Program Coordinator, August Spector, at 301-415-7080, TDD: 301-415-2100, or by e-mail at aks@nrc.gov. Determinations on requests for reasonable accommodation will be made on a case-by-case basis.

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: October 21, 2004.
Dave Gameroni,
Office of the Secretary.

[FR Doc. 04-24010 Filed 10-22-04; 10:12 am]

BILLING CODE 7590-01-M